DEPARTMENT OF THE INTERIOR

Fish and Wildlife Service

Notice of Availability of a Draft Recovery Plan for the Kneeland Prairie Penny-Cress (Thlaspi californicum), for Review and Comment

AGENCY: Fish and Wildlife Service, Interior.

ACTION: Notice of document availability.

SUMMARY: We, the U.S. Fish and Wildlife Service, announce the availability for public review of the Draft Recovery Plan for the Kneeland Prairie Penny-cress (Thlaspi californicum). The draft plan includes specific recovery criteria and measures to be taken in order to delist the Kneeland Prairie penny-cress. We solicit review and comment from local, State, and Federal agencies, and the public on this draft recovery plan.

DATE:S Comments on the draft recovery plan must be received on or before December 9, 2002, to receive consideration by us.

ADDRESSES: Copies of the draft recovery plan are available for inspection, by appointment, during normal business hours at the following location: U.S. Fish and Wildlife Service, Arcata Fish and Wildlife Office, 1655 Heindon Road, Arcata, California 95521 (phone: 707-822-7201). Requests for copies of the draft recovery plan, and written comments and materials regarding this plan should be addressed to Bruce Halstead, Project Leader, at the above Arcata address.

FOR FURTHER INFORMATION CONTACT: David Imper, Fish and Wildlife Ecologist, at the above Arcata address.

SUPPLEMENTARY INFORMATION:

Background

Restoring endangered or threatened animals and plants to the point where they are again secure, self-sustaining members of their ecosystems is a primary goal of our endangered species program. To help guide the recovery effort, we are working to prepare recovery plans for most of the listed species native to the United States. Recovery plans describe actions considered necessary for the conservation of the species, establish criteria for downlisting or delisting listed species, and estimate time and cost for implementing the recovery measures needed.

The Endangered Species Act of 1973, as amended in 1988 (16 U.S.C. 1531 et seq.) (Act), requires the development of recovery plans for listed species unless such a plan would not promote the conservation of a particular species. Section 4(f) of the Act requires that public notice and an opportunity for public review and comment be provided during recovery plan development. We will consider all information presented during the public comment period prior to approval of each new or revised recovery plan. Substantive technical comments will result in changes to the plan. Substantive comments regarding recovery plan implementation may not necessarily result in changes to the recovery plan, but will be forwarded to appropriate Federal or other entities so that they can take these comments into account during the course of implementing recovery actions. Individual responses to comments will not be provided.

Kneeland Prairie penny-cress (Thlaspi californicum; penny-cress) is a perennial member of the mustard family (Brassicaceae), restricted to outcrops of serpentine substrate located in Kneeland Prairie, Humboldt County, California. Historical loss of the serpentine habitat, combined with the potential for future loss of habitat is the primary current threat to the species.

The draft recovery plan includes conservation measures designed to ensure that a self-sustaining population of penny-cress will continue to exist, distributed throughout its extant and historic range. Specific recovery actions focus on protection of the serpentine outcrops and surrounding oak woodland and grasslands. The draft plan also seeks to re-establish multiple sexually reproducing colonies of the penny-cress within the native serpentine plant community present in Kneeland Prairie. The ultimate objective of this recovery plan is to delist penny-cress through implementation of a variety of recovery measures including: (1) Protection of the extant population and its habitat, involving acquisition or other legal protective mechanisms, monitoring, and coordination with the landowners; (2) research on the species biology and habitat requirements; (3) augmentation of existing colonies and establishment of new colonies; and (4) ex-situ conservation measures including artificial rearing and seed banking.

Authority: The authority for this action is section 4(f) of the Endangered Species Act, 16 U.S.C. 1533(f).

Dated: August 26, 2002.
Steve Thompson,
Manager, California/Nevada Operations Office, Region 1, Fish and Wildlife Service.

[FR Doc. 02-25457 Filed 10-8-02; 8:45 am]

BILLING CODE 4310-55-P